DEPARTMENT OF THE INTERIOR

Fish and Wildlife Service

Draft Comprehensive Conservation Plan and Environmental Assessment for Stone Lakes National Wildlife Refuge

AGENCY: Fish and Wildlife Service, Department of the Interior.

ACTION: Notice of availability; request for comments.

SUMMARY: The U.S. Fish and Wildlife Service (Service) announces that a Draft Comprehensive Conservation Plan and Environmental Assessment (Draft CCP/EA) for Stone Lakes National Wildlife Refuge (Refuge) is available for review and comment. Also available for review with the Draft CCP/EA are draft compatibility determinations for fishing; wildlife observation and photography; environmental education and interpretation; high-speed boating; recreational boating associated with hunting, fishing, wildlife observation and photography; research; plant gathering; and mosquito monitoring and control.

DATES: Written comments must be received at the address below by October 28, 2006. In addition, two public meetings will be held on October 4 and October 5, 2006 from 7 p.m. to 9 p.m. in California.

ADDRESSES: For more information on obtaining documents and submitting comments, see “Review and Comment” under SUPPLEMENTARY INFORMATION. For public meeting location see “Public Meetings.”

FOR MORE INFORMATION CONTACT: Tom Harvey, Project Leader at the Stone Lakes NWR address under “Review and Comment” or David Bergendorf, Refuge Planner, at the CA/NV Refuge Planning Office address under “Review and Comment” or at (916) 414-6503 (telephone).

SUPPLEMENTARY INFORMATION: This Draft CCP/EA, prepared pursuant to the National Wildlife Refuge System Administration Act of 1966, as amended by the National Wildlife Refuge Improvement Act of 1997 (16 U.S.C 668dd et seq.) as amended and the National Environmental Policy Act of 1969 (42 U.S.C. 4321-4347) as amended, describes the Service's proposal for managing the Refuge for the next 15 years.

Review and Comment

Copies of the Draft CCP/EA may be obtained by writing to the U.S. Fish and Wildlife Service, Attn: David Bergendorf, CA/NV Refuge Planning Office, 2800 Cottage Way, W-1832, Sacramento, CA 95825-1846. Copies of the Draft CCP/EA may be viewed at this address or at Stone Lakes National Wildlife Refuge, 1624 Hood-Franklin Road, Elk Grove, CA 95758. The Draft CCP/EA will also be available for viewing and downloading online at http://www.fws.gov/stonelakes/publicreview.htm. Printed documents will also be available for review at the following libraries: Sacramento Central Library, 828 I Street, Sacramento, CA 95814; Arden-Dimick Library, 891 Watt Avenue, Sacramento, CA 95864; Belle Cooledge Library, 5600 South Land Park Drive, Sacramento, CA 95822; Elk Grove Library, 8962 Elk Grove Blvd., Elk Grove, CA 95624; Clarksburg Yolo County Library, 52915 Netherlands Road, Clarksburg, CA 95612; Colonial Heights Library, 4799 Stockton Blvd., Sacramento, CA 95820; Courtland Library Neighborhood Library, 170 Primasing Avenue, Courtland, CA 95615; and the Galt Branch Library (Marian O. Lawrence Library), 1000 Caroline Avenue, Galt, CA 95632.

Comments on the Draft CCP/EA should be addressed to: David Bergendorf, Refuge Planner, 2800 Cottage Way, W-1832, Sacramento, CA 95825-1846. Comments may also be faxed to (916) 414-6497 or submitted via electronic mail to david_bergendorf@fws.gov. If submitting comments by fax, please address to Attn: David Bergendorf, re: Stone Lakes NWR CCP. If submitting electronic mail, please type “Stone Lakes NWR CCP” in the subject line.

Public Meetings

Our two public meetings will take place at the Elk Grove Community Services District, Administration Building, boardroom located at 8820 Elk Grove Blvd., Elk Grove, CA 95624.

Background

The Refuge was established in 1994 under the authority of the Emergency Wetlands Resources Act of 1986, the Fish and Wildlife Act of 1956, the Migratory Bird Conservation Act and the Endangered Species Act of 1973. The Refuge boundary encompasses 17,600 acres; this includes a core Refuge area of about 9,000 acres and a 9,000-acre cooperative Wildlife Management Area that encompasses land managed by other agencies in concert with Refuge purposes. The Service actively manages about 6,000 acres. The Refuge is located in the Beach-Stone Lakes Basin within the Sacramento Valley in southwestern Sacramento County; it lies about 10 miles south of the city of Sacramento, straddling Interstate 5 from the town of Freeport south to Lost Slough.

Purpose and Need for Action

The Service prepared the Stone Lakes NWR Draft CCP to guide management of wildlife, other natural resources, and public use on the Refuge for the next 15 years. The CCP is flexible; it will be revised periodically to ensure that its goals, objectives, implementation strategies and timetables remain valid and appropriate. Major revisions require and provide a process for public involvement and National Environmental Policy Act (NEPA) review, if needed.

Alternatives

The draft EA/CCP presents an evaluation of the environmental effects of three alternatives for managing the Stone Lakes National Wildlife Refuge for the next 15 years. The Service proposes to implement Alternative B, as described in the EA. Alternative B best achieves the Refuges' purposes, vision, and goals; contributes to the Refuge System mission; addresses the significant issues and relevant mandates; and is consistent with principles of sound fish and wildlife management. This alternative is described in more detail in the CCP.

There are many features of proposed Refuge management that are common to all three alternatives. Features common to all alternatives include ongoing coordination with the Sacramento/Yolo Mosquito and Vector Control District on mosquito control, ongoing weed management including coordination with the Stone Lakes Water Hyacinth Control Group, implementation of a hunt program, vernal pool management, boating access with a no-wake zone on all Refuge waters, and riparian habitat maintenance and restoration. There are also many features of each alternative that are distinct.

Alternative A, the no action alternative, assumes no change from current management programs and is considered the baseline to compare other alternatives against. Under Alternative A, the primary management focus of the Refuge would continue to be providing habitat for migrating, wintering and nesting migratory and resident birds with an emphasis on waterbirds and endangered species by restoring and maintaining wetland, riparian woodland and grassland habitats, and valuable agricultural lands. The Refuge would continue to offer limited wildlife-dependent recreation, including volunteer participation in restoration, limited wildlife observation and photography, limited environmental education and interpretative programs, and hunting, with emphasis on youth and disabled hunters.

Under Alternative B, the Refuge would continue its current focus of providing wintering habitat for migratory birds and management to benefit endangered species. Management programs for migratory birds and other Central Valley wildlife would be expanded and improved and public use opportunities would also be expanded. The number of units open to the public would increase from one to five. In addition, environmental education, interpretation, wildlife observation, wildlife photography, hunting, and fishing programs would be expanded.

Under Alternative C, the Refuge would continue to focus on providing wintering habitat for migratory birds and managing for endangered species while placing a greater emphasis on historic conditions in management and habitat restoration activities. Opportunities for the six priority public uses: Hunting, fishing, wildlife observation and photography, environmental education and interpretation, would be expanded beyond both Alternatives A and B.

Public Comments

After the review and comment period ends for this Draft CCP/EA, comments will be analyzed by the Service and addressed in the Final CCP. All comments received from individuals, including names and addresses, become part of the official public record and may be released. Requests for such comments will be handled in accordance with the Freedom of Information Act, the Council on Environmental Quality's NEPA regulations, and other Service and Departmental policies and procedures.

Dated: July 31, 2006.
Margaret T. Kolar,
Acting Manager, California/Nevada Operations, Sacramento, California.

[FR Doc. 06-8159 Filed 9-22-06; 8:45 am]

BILLING CODE 4310-55-P